DEPARTMENT OF HOUSING AND URBAN DEVELOPMENT

[Docket No. FR-5383-N-02]

Notice of Proposed Information Collection for Public Comment; Public Housing Contracting With Resident-Owned Businesses

AGENCY: Office of the Assistant Secretary for Public and Indian Housing, HUD.

ACTION: Notice of proposed information collection.

SUMMARY: The proposed information collection requirement will be submitted to the Office of Management and Budget (OMB) for review, as required by the Paperwork Reduction Act. The Department is soliciting public comments on the subject proposal.

DATES: Comments Due Date: April 5, 2010.

ADDRESSES: Interested persons are invited to submit comments regarding this proposal. Comments should refer to the proposal by name and/or OMB Control number and sent to: Leroy McKinney, Departmental Reports Management Officer, QDAM, Department of Housing and Urban Development, 451 7th Street, SW., Room 4178, Washington DC 20410-5000; telephone 202.402.5564 (this is not a toll-free number) or e-mail Leroy McKinney at Leroy.McKinney@hud.gov for a copy of the proposed forms or other available information. Persons with hearing or speech impairments may access this number through TTY by calling the toll-free Federal Information Relay Service at (800) 877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202.402.3374, for copies of other available documents (this is not a toll-free number.)

SUPPLEMENTARY INFORMATION: The Department will submit the proposed information collection to the Office of Management and Budget (OMB) for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Public Housing Contracting with Resident-Owned Businesses.

OMB Control Number: 2577-0161.

Description of the Need for the Information and Proposed Use: PHAs can enhance the economic opportunities of public housing residents by allowing for an alternative procurement method to solicit and contract with eligible and qualified resident-owned businesses to obtain services, supplies, or construction for individual contracts that do not exceed a combined dollar value of $1,000,000. The alternative procurement method requires PHAs to collect such information as certified copies of any State, county, or municipal licenses that may be required of the business to engage in the type of business activity for which it was formed; a certification that shows the business is owned by residents; and, certification as to the number of contracts awarded under the alternative procurement process.

Agency Form Numbers: None.

Members of Affected Public: State or Local Government; Public Housing Agencies (PHAs), Individuals or Households.

Estimation of the Total number of hours needed to prepare the information collection including number of respondents, frequency of response, and hours of response:

Number of PHAs | Number of responses annually* | Hours per response | Total annual burden hours | Cost per hour | Total annual cost
82 | 82 | 24 | 1,968 | $29.00 | $57,072
*The Department estimates that out of a total of 4113 PHAs only 2 percent or 82 PHAs contract with resident owned business. The calculation is as follows: 82 PHAs × 24 (hours) = 1,968 (total burden hours) × $29 p/hr = $57,072 (total annual cost) Average PHA salary = $60,000 per year; $1154 per week; $29.00 per hour.

Status of the Proposed Information Collection: Extension of a currently approved collection.

Authority: The Paperwork Reduction Act of 1995, 44 U.S.C. Chapter 35, as amended.

Dated: January 27, 2010.
Merrie Nichols-Dixon,
Acting Deputy Assistant Secretary for Policy, Program and Legislative Initiatives.

[FR Doc. 2010-2208 Filed 2-2-10; 8:45 am]

BILLING CODE 4210-67-P